DEPARTMENT OF COMMERCE

National Institute of Standards and Technology

National Fire Codes: Request for Comments on NFPA Technical Committee Reports

AGENCY: National Institute of Standards and Technology, Commerce.

ACTION: Notice.

SUMMARY: The National Fire Protection Association (NFPA) revises existing standards and adopts new standards twice a year. At its January and July meetings the NFPA Standards Council acts on recommendations made by its technical committees.

The purpose of this notice is to request comments on the technical reports that will be presented at NFPA's 2005 November Cycle. The publication of this notice by the National Institute of Standards and Technology (NIST) on behalf of NFPA is being undertaken as a public service; NIST does not necessarily endorse, approve, or recommend any of the standards referenced in the notice.

DATES: Twenty-seven reports are published in the 2005 November Cycle Report on Proposals and will be available on January 7, 2005. Comments received on or before March 25, 2005, will be considered by the respective NFPA Committees before final action is taken on the proposals.

ADDRESSES: The 2005 November Cycle Report on Proposals is available and downloadable from NFPA's Web site— http://www.nfpa.org or by requesting a copy from the NFPA, Fulfillment Center, 11 Tracy Drive, Avon, Massachusetts 02322. Comments on the report should be submitted to Casey C. Grant, Secretary, Standards Council, NFPA, 1 Batterymarch Park, P.O. Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR part 51.

Revisions of existing standards and adoption of new standards are reported by the technical committees to the Standards Council for issuance in January and July of each year. Documents that receive an Intent to Make a Motion are automatically held for action at the NFPA's meeting in June of each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before March 25, 2005, for the 2005 November Cycle Report on Proposals will be considered by the NFPA before final action is taken on the proposals.

Copies of all written comments received and the disposition of those comments by the NFPA committees will be published as the 2005 November Cycle Report on Comments by September 16, 2005.

A copy of the Report on Comments will be sent automatically to each commenter. Reports of the Technical Committees on documents that do not receive an Intent to Make a Motion will automatically be forwarded to the Standards Council for action at its January 27, 2006, meeting. Action on the reports of the Technical Committees on documents that do receive an Intent to Make a Motion will be taken at the June 4-9, 2006, meeting in Orlando, Florida by NFPA members.

2005 November Meeting—Report on Proposals
[P = Partial revision; W = Withdrawal; R = Reconfirmation; N = New; C = Complete revision]
NFPA 10 | Standard for Portable Fire Extinguishers | C
NFPA 14 | Standard for the Installation of Standpipe and Hose Systems | C
NFPA 31 | Standard for the Installation of Oil-Burning Equipment | P
NFPA 37 | Standard for the Installation and Use of Stationary Combustion Engines and Gas Turbines | P
NFPA 51A | Standard for Acetylene Cylinder Charging Plants | C
NFPA 70B | Recommended Practice for Electrical Equipment Maintenance | P
NFPA 79 | Electrical Standard for Industrial Machinery | P
NFPA 97 | Standard Glossary of Terms Relating to Chimneys, Vents, and Heat-Producing Appliances | W
NFPA 102 | Standard for Grandstands, Folding and Telescopic Seating, Tents, and Membrane Structures | C
NFPA 211 | Standard for Chimneys, Fireplaces, Vents, and Solid Fuel-Burning Appliances | P
NFPA 289 | Standard Method of Fire Test for Room Fire Growth Contribution of Individual Fuel Packages | N
NFPA 418 | Standard for Heliports | C
NFPA 750 | Standard on Water Mist Fire Protection Systems | P
NFPA 804 | Standard for Fire Protection for Advanced Light Water Reactor Electric Generating Plants | C
NFPA 805 | Performance-Based Standard for Fire Protection for Light Water Reactor Electric Generating Plants | C
NFPA 901 | Standard Classifications for Incident Reporting and Fire Protection Data | C
NFPA 914 | Code for Fire Protection of Historic Structures | C
NFPA 1401 | Recommended Practice for Fire Service Training Reports and Records | C
NFPA 1404 | Standard for Fire Service Respiratory Protection Training | C
NFPA 1405 | Guide for Land-Based Fire Fighters Who Respond to Marine Vessel Fires | C
NFPA 1851 | Standard on Selection, Care, and Maintenance of Structural Fire Fighting Protective Ensembles | C
NFPA 1906 | Standard for Wildland Fire Apparatus | C
NFPA 1912 | Standard for Fire Apparatus Refurbishing | C
NFPA 1971 | Standard on Protective Ensemble For Structural Fire Fighting | C
NFPA 1976 | Standard on Protective Ensemble for Proximity Fire Fighting | W
NFPA 1983 | Standard on Fire Service Life Safety Rope and System Components | C
NFPA 1994 | Standard on Protective Ensembles for Chemical/Biological Terrorism Incidents | P

Dated: November 10, 2004.
Hratch G. Semerjian,
Acting Director.

[FR Doc. 04-25732 Filed 11-18-04; 8:45 am]

BILLING CODE 3510-13-P